DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Workgroup on the National Health Information Infrastructure (NHII).

Time and Date: 9 a.m.-5:30 p.m April 26, 2005. 8:30 a.m.-1 p.m. April 27, 2005.

Place: Holiday Inn Capitol, 550 C Street, SW., Washington, DC 20024.

Status: Open.

Purpose: The Workgroup will meet to discuss and hear testimony from invited experts on policy issues related to sponsorship of personal health records (PHRs), to discuss market forces promoting or inhibiting acceptance and adoption of PHRs (“tethered” and “untethered”) by providers, plans, and employers; and to explore strategies for overcoming major barriers to widespread adoption of PHRs by major stakeholders. The Subcommittee will also be briefed on other key developments related to PHRs.

Contact Person for more information: Substantive program information as well as summaries of meetings and a roster of committee members may be obtained from Mary Jo Deering, Lead Person for the NCVHS Workgroup on the National Health Information Infrastructure, Director for Informatics Dissemination, NCI Center for Bioinformatics, National Cancer Institute, National Institutes of Health, USDHHS, 6116 Executive Blvd. —#400, Rockville, MD 20852, Phone: (301) 594-1273, Fax: (301) 480-3441, E-mail: deeringm@mail.nih.gov or Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.nevhs.hhs.gov/, where an agenda for the meeting will be posted when available.

Should you require reasonable accommodation, please contact the CDC Office of Equal Employment Opportunity on (301) 458-4EEO (4336) as soon as possible.

Dated: April 5, 2005.
James Scanlon,
Acting Deputy Assistant Secretary for Science and Data Policy, Office of the Assistant Secretary for Planning and Evaluation.

[FR Doc. 05-7396 Filed 4-12-05; 8:45 am]

BILLING CODE 4151-04-M